DEPARTMENT OF TRANSPORTATION

Federal Aviation Administration

Fourth Meeting: RTCA Tactical Operations Committee (TOC)

AGENCY: Federal Aviation Administration (FAA), U.S. Department of Transportation (DOT).

ACTION: Fourth meeting notice of RTCA Tactical Operations Committee.

SUMMARY: The FAA is issuing this notice to advise the public of the second meeting of the RTCA Tactical Operations Committee.

DATES: The meeting will be held February 6, 2014 from 10:00 a.m.-3:00 p.m.

ADDRESSES: The meeting will be held at RTCA, Inc., 1150 18th Street NW., Suite 910, Washington, DC, 20036.

FOR FURTHER INFORMATION CONTACT: The RTCA Secretariat, 1150 18th Street NW., Suite 910, Washington, DC, 20036, or by telephone at (202) 833-9339, fax at (202) 833-9434, or Web site at http://www.rtca.org. Andy Cebula, NAC Secretary can also be contacted at acebula@rtca.org or 202-330-0652.

SUPPLEMENTARY INFORMATION: Pursuant to section 10(a) (2) of the Federal Advisory Committee Act (Pub. L. 92-463, 5 U.S.C., App.), notice is hereby given for a meeting of Special Committee 224. The agenda will include the following:

February 6

• Opening of Meeting/Introduction of TOC Members—Co-Chairs Mr. Jim Bowman, FedEx Express, and Mr. Dale Wright, National Air Traffic Controllers Association (NATCA)

• Official Statement of Designated Federal Official—Ms. Elizabeth Ray, FAA Air Traffic Organization, Vice President Mission Support

• Approval of November 7, 2013 Meeting Summary

• FAA Report

• Notice to Airmen (NOTAM) Criteria and Metrics

○ Recommendation covering success criteria and compliance metrics to evaluate the FAA NOTAM Modernization initiative and comply with the Pilot's Bill of Rights.

• Visual Area Surface 20:1 Obstacle Clearance

○ Recommendation related to the FAA November 2013 Memorandum, “Mitigation of obstructions within the 20:1 Visual Area Surface.”

• VHF Omni-directional Range (VOR) Minimum Operating Network

○ Interim Report ranking and applying selection criteria to VOR MON list and identifying exceptions.

• Regional Task Groups (RTGs)

○ Discussion of specific Taskings for Regional Task Groups.

• NextGen Advisory Committee (NAC)

○ Report on current activities underway by the NAC.

• Anticipated Issues for TOC consideration and action at the next meeting.

• Other business

• Adjourn

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on January 9, 2014.
Paige Williams,
Management Analyst, NextGen, Business Operations Group, Federal Aviation Administration.

[FR Doc. 2014-00620 Filed 1-14-14; 8:45 am]

BILLING CODE 4910-13-P